DEPARTMENT OF THE INTERIOR

National Park Service

[NPS-NER-HPPC-9204; 1843-PAGR-409]

Paterson Great Falls National Historical Park Federal Advisory Commission Meetings

AGENCY: National Park Service, Interior.

ACTION: Notice of meetings.

SUMMARY: Notice is hereby given for the 2012 meetings of the Paterson Great Falls National Historical Park Federal Advisory Commission.

DATES: The Commission will meet on the following dates in 2012:

• Thursday, January 12, 2012, 2:00-5 p.m. (Snow date: Thursday, January 19, 2012, 2:00-5 p.m.);

• Thursday, April 12, 2012, 2:00-5 p.m.;

• Thursday, July 12, 2012, 2:00-5 p.m.; and

• Thursday, October 11, 2012, 2:00-5 p.m.

ADDRESSES: All meetings will be held at the Paterson Museum, 2 Market Street (intersection of Market and Spruce Streets), Paterson, NJ.

FOR FURTHER INFORMATION CONTACT: Superintendent; Paterson Great Falls National Historical Park; 72 McBride Avenue; Paterson, NJ 07501; (973) 523-2630.

SUPPLEMENTARY INFORMATION: The Paterson Great Falls National Historical Park (NHP) Federal Advisory Commission was authorized by Congress and signed by the President on March 30, 2009, (Pub. L. 111-11, Title VII, Subtitle A, Section 7001, Subsection e) “to advise the Secretary in the development and implementation of the management plan.” Agendas for these meetings will be provided on the Paterson Great Falls NHP Web site (http://www.nps.gov/pagr/parkmgmt/federal-advisory-commission.htm) and published by press release.

The meetings will be open to the public and time will be reserved during each meeting for public comment. Oral comments will be summarized for the record. If individuals wish to have their comments recorded verbatim, they must submit them in writing. Written comments and requests for agenda items may be sent to: Federal Advisory Commission Chair; Paterson Great Falls National Historical Park; 72 McBride Avenue; Paterson, NJ 07501.

Before including your address, phone number, email address, or other personal identifying information in your comment, you should be aware that your entire comment—including your personal identifying information—may be made publicly available at any time. While you can ask us in your comment to withhold your personal identifying information from public review, we cannot guarantee that we will be able to do so.

Dated: December 5, 2011.
Darren Boch,
Superintendent, Paterson Great Falls NHP and Designated Federal Official for the Commission.

[FR Doc. 2012-277 Filed 1-10-12; 8:45 am]

BILLING CODE 4310-25-P